DEPARTMENT OF HEALTH & HUMAN SERVICES

VizRisk Prize Competition Challenge

AGENCY: Office of Business Management and Transformation, HHS.

ACTION: Notice.

SUMMARY: VizRisk is the first-ever behavioral health data visualization challenge hosted by the US Department of Health and Human Services (HHS). Its goal is to foster increased utilization, innovation, and critical analyses of publically available but underutilized government health data to better inform personal and health policy decisions.

This 3 month challenge, July 28th to October, 28th 2014 will call on talented designers, coders, data scientists, public health experts, and others from around the country to analyze, organize, and visualize behavioral health risk data. We will be asking participants to use CDC's Behavioral Risk Factor Surveillance System data in combination with other publicly available government data sets to reveal key insights, trends, and relationships.

Submissions will be graphic, dynamic visualizations that combine three or more variables (e.g. showing the relationship between behavioral patterns, health risks, and medical costs). Participants are free to use any pre-existing, customized, or new tools to produce these visualizations.

All submissions will be evaluated; separate sets of prizes will be awarded for excellence in each of the criteria below. A total of up to 7 prizes and $15,000 will be offered.

• Innovation—evaluated for novel combination, integration, and application of data.

• Relevance—evaluated for meaningful health data relationships that are comparable across time, geographies, and populations.

• Design—evaluated for visually appealing, elegant, intuitive interface and visualizations.

• Scientific Excellence—evaluated for rigorously measured relationships that adhere to the principles of scientific inquiry.

The statutory authority for this challenge competition is Section 105 of the America COMPETES Reauthorization Act of 2010 (Pub. L. 111-358).

DATES:

• Submission period: 9 a.m. July 28th to 12 a.m. October, 28th 2014.

• Judging: October 28th-November 15th, 2014.

• Awards Announced: November 30th, 2014 on hhsvizrisk.org and via email.

FOR FURTHER INFORMATION CONTACT: Sandeep Patel, Sandeep.patel@hhs.gov.

SUPPLEMENTARY INFORMATION:

Subject of Challenge Competition

These visualization tools and user-centered applications should be created to be used for two purposes: (1) Informing both the public and policymakers on current trends in health and (2) assisting in active decision-making processes, especially involving health risks in the context of behavior, environment, medical history, etc. The software visualizations should be customizable by the user; for example, users must be able to filter/retrieve detail regarding particular relationships between data. A potential application could also be that patients can enter their own health and/or claims information, such as demographic features or clinical attributes, for comparison with population statistics and trends to better inform decision-making.

We are particularly interested in visualizations using behavioral health data and its relationships to medical use, environment, nutrition, socioeconomic status, and cost. These visualizations can reveal not just the most common trends in behavior that lead to particular conditions and costs, but also ways to sidestep preventable health conditions through health behaviors. Detailed Behavioral Risk Factor and Surveillance System data, enhanced with Medical Provider Utilization and Payment data, reports of adverse drug events, National Health and Nutrition Examination Survey, 2010 Census data, Envirofacts data, and Healthcare Cost and Utilization Project data can enhance analysis of behavioral health risks on a multifaceted level. The combination of data from multiple sources, and quality measure data in particular, can be used to create tools providing deep insight into trends in population health.

Behavioral health is influenced by many factors, so participants are encouraged to explore a variety of publically-available and relevant datasets in addition to the seven listed above.

When developing the project, participants should consider the context of the user. Would the viewer/user be a patient seeking to learn more about his/her health, or a doctor seeking to find trends in behavioral health, or a policymaker seeking to use data to drive health policy. For visualizations, at least three “dimensions,” or contexts of data should be included, one of which must incorporate the Behavioral Risk Factor and Surveillance System (BRFSS) data. For example, visualizations may include the BRFSS data, air toxicity data from EPA, and personal health data.

Participants will build out their visualizations to the most complete extent possible. If finalists choose to create live or static visualizations embeddable for use on the web, mobile, or print, they should be sure to cite the data sources used and provide access or links to the source data. Participants are also free to publish an API for their visualization so that others can build on and extend the work.

Eligibility Rules for Participating in the Competition

To be eligible to win a prize under this challenge, an individual or entity—

(1) Shall have registered to participate in the competition under the rules promulgated by the Office of Business Management and Transformation.

(2) Shall have complied with all the requirements under this section.

(3) In the case of a private entity, shall be incorporated in and maintain a primary place of business in the United States, and in the case of an individual, whether participating singly or in a group, shall be a citizen or permanent resident of the United States.

(4) May not be a Federal entity or Federal employee acting within the scope of their employment.

(5) Shall not be an HHS employee working on their applications or submissions during assigned duty hours.

(6) Shall not be an employee of Office Business Management and Transformation at HHS.

(7) Federal grantees may not use Federal funds to develop COMPETES Act challenge applications unless consistent with the purpose of their grant award.

(8) Federal contractors may not use Federal funds from a contract to develop COMPETES Act challenge applications or to fund efforts in support of a COMPETES Act challenge submission.

An individual or entity shall not be deemed ineligible because the individual or entity used Federal facilities or consulted with Federal employees during a competition if the facilities and employees are made equitably available to all individuals and entities participating in the competition.

Entrants must agree to assume any and all risks and waive claims against the Federal Government and its related entities, except in the case of willful misconduct, for any injury, death, damage, or loss of property, revenue, or profits, whether direct, indirect, or consequential, arising from my participation in this prize contest, whether the injury, death, damage, or loss arises through negligence or otherwise.

Entrants must also agree to indemnify the Federal Government against third party claims for damages arising from or related to competition activities.

Registration Process for Participants

To register for this Challenge, participants can access the challenge Web site: http://www.hhsvizrisk.org/ and click on Sign up, which will lead participants to an Eventbrite page: https://www.eventbrite.com/e/hhs-vizrisk-tickets-12020604953.

Prizes

• Total: $15,000 in Prizes

• Awarded to best overall projects based on the three criteria established.

○ Grand Prize—$6,000

○ Second Prize—$3,000

○ Third Prize—$2,000

• Awarded to projects best embodying each of the characteristics below.

○ Relevance Prize—$1,000

○ Design Prize—$1,000

○ Innovation Prize—$1,000

○ Scientific Excellence Prize—$1,000

Payment of the Prizes

Prize will be paid by HHS Office of Business Management and Transformation.

Basis Upon Which Winner Will Be Selected

The review panel will make selections based upon the following criteria:

• 25% Innovation—novel combination, integration, and application of data

• 25% Relevance—health data relationships are comparable across time, geographies, and populations

• 25% Design—visually appealing, elegant, intuitive interface and visualizations

• 25% Scientific Excellence—rigorously measured relationships adhere to the principles of scientific inquiry

Projects built around suggested directions and de novo projects will be weighted equally. In order for submissions to be evaluated, they must include clear, detailed processes on how they were produced, including any code if applicable. The processes can be submitted in text document.

In order for an entry to be eligible to win this Challenge, it must meet the following requirements:

1. Acceptable platforms—The tool must be designed for use with existing Web, mobile Web, electronic health record, or other platform.

2. Section 508 Compliance—Contestants must acknowledge that they understand that, as a prerequisite to any subsequent acquisition by FAR contract or other method, they are required to make their proposed solution compliant with Section 508 accessibility and usability requirements at their own expense. Any electronic information technology that is ultimately obtained by HHS for its use, development, or maintenance must meet Section 508 accessibility and usability standards. Past experience has demonstrated that it can be costly for solution-providers to “retrofit” solutions if remediation is later needed. The HHS Section 508 Evaluation Product Assessment Template, available at http://www.hhs.gov/od/vendors/index.html, provides a useful roadmap for developers to review. It is a simple, web-based checklist utilized by HHS officials to allow vendors to document how their products do or do not meet the various Section 508 requirements.

3. No HHS or OBMT logo—The app must not use HHS' or OBMT's logos or official seals in the Submission, and must not claim endorsement.

4. Functionality/Accuracy—A submission may be disqualified if it fails to function as expressed in the description provided by the user, or if it provides inaccurate or incomplete information.

5. Security—Submissions must be free of malware. Contestant agrees that OBMT may conduct testing on the app to determine whether malware or other security threats may be present. OBMT may disqualify the Submission if, in OBMT's judgment, the app may damage government or others' equipment or operating environment.

Additional Information

General Conditions: OBMT reserves the right to cancel, suspend, and/or modify the Contest, or any part of it, for any reason, at OBMT's sole discretion.

Intellectual Property

• Each entrant retains full ownership and title in and to their submission. Entrants expressly reserve all intellectual property rights not expressly granted under the challenge agreement.

• By participating in the challenge, each entrant hereby irrevocably grants to OBMT a limited, non-exclusive, royalty-free, worldwide license and right to reproduce, publically perform, publically display, and use the submission for internal HHS business and to the extent necessary to administer the challenge, and to publically perform and publically display the Submission, including, without limitation, for advertising and promotional purposes relating to the challenge.

Dated: July 11, 2014.
E.J. Holland, Jr.,
Assistant Secretary for Administration, U.S. Department of Health and Human Services.

[FR Doc. 2014-17065 Filed 7-18-14; 8:45 am]

BILLING CODE 4151-17-P